FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed [new, revised, or continuing—select one] information collections. In accordance with the Paperwork Reduction Act of 1995 (44 U.S.C. 3506(c)(2)(A)), this notice seeks comments concerning the end-of-course evaluation form used for National Fire Academy field (off-campus) and State Weekend Program courses.

SUPPLEMENTARY INFORMATION: The National Fire Academy (NFA) is mandated under the Fire Prevention and Control Act of 1974, Public Law 93-498, to provide training and education to the Nation's fire and emergency response personnel. The programs offered by the Academy serve as models of excellence. To maintain the quality of these programs, it is necessary to evaluate them on an on-going basis. This National Fire Academy Course Evaluation Form is a key component for the measurement of quality assurance for NFA field (off-campus) and State Weekend Program courses. This form is used for courses delivered both on-campus and throughout the Nation.

Collection of Information

Title: National Fire Academy Course Evaluation Form.

Type of Information Collection: Extension of existing approved collection.

OMB Number: 3067-0233.

Form Numbers: FEMA Form 95-45.

Abstract: This National Fire Academy Course Evaluation Form is used in all field two-day (off-campus) and State Weekend Program courses. The form is primarily used to assess the effectiveness of the course materials and instructor delivery. The demographic information is used in developing needs assessments for future course development/revision efforts.

Affected Public: Individuals.

Estimated Total Annual Burden Hours: 6250.

FEMA forms | Number of respondents | Frequency of response | Hours per response | Annual burden hours
| (A) | (B) | (C) | (A × B × C)
95-45 | 25,000 | 1 | .25 | 6,250
Total | 25,000 | 1 | .25 | 6,250

Estimated Cost: $104,000 per year.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities and Services Management Division, Administration and Resource Planning Directorate, Federal Emergency Management Agency, 500 C Street, SW., Room 316, Washington, DC 20472.

FOR FURTHER INFORMATION CONTACT: Ms. Terry Gladhill, Program Analyst, National Fire Academy, (301) 447-1239 for additional information. You may contact Ms. Anderson for copies of the proposed collection of information at telephone number (202) 646-2625 or facsimile number (202) 646-3347 or e-mail muriel.Anderson@fema.gov.

Virginia A. Akers,
Acting Branch Chief, Program Services and Systems Branch,Facilities and Services Management Division, Administration and Resource Planning Directorate.

[FR Doc. 02-7176 Filed 3-25-02; 8:45 am]

BILLING CODE 6718-01-P